DEPARTMENT OF TRANSPORTATION

National Highway Traffic Safety Administration

[Docket No. NHTSA 2004-17439; Notice 2]

Kia Motors America, Inc. and Kia Motors Corp., Grant of Petition for Decision of Inconsequential Noncompliance

Kia Motors America, Inc. and Kia Motors Corp. (Kia) have determined that certain vehicles that Kia produced do not comply with provisions of Federal Motor Vehicle Safety Standard (FMVSS) Nos. 101, “Controls and displays,” 105, “Hydraulic and electric brake systems,” and 135, “Passenger car brake systems.” Pursuant to 49 U.S.C. 30118(d) and 30120(h), Kia has petitioned for a determination that this noncompliance is inconsequential to motor vehicle safety and has filed an appropriate report pursuant to 49 CFR part 573, “Defect and Noncompliance Reports.” Notice of receipt of the petition was published with a 30 day comment period on April 20, 2004 in the Federal Register (69 FR 21188). NHTSA received no comments.

A total of approximately 496,058 vehicles are affected. These vehicles do not meet the letter height requirements for brake system warning lights for the abbreviation “ABS” and in some cases the word “brake.” FMVSS No. 101, “Controls and displays,” Table 2, Column 3, “Identifying Words or Abbreviation,” with regard to brake systems says, “* * * see FMVSS 105 and 135.” S5.3.5 of FMVSS No. 105, “Hydraulic and electric brake systems,” requires that “Each indicator lamp shall display word, words or abbreviation * * * which shall have letters not less than ⅛ -inch high.” S5.5.5 of FMVSS No. 135 requires that “Each visual indicator shall display a word or words * * * [which] shall have letters not less than 3.2 mm (⅛ inch) high.”

A total of 460,792 vehicles do not meet the letter height requirements for the word “brake” and abbreviation “ABS” for brake warning systems. These noncompliant vehicles are 143,046 MY 2000-2001 Sephias with a “brake” letter height of 2.2 mm and an “ABS” letter height of 1.7 mm, 128,565 MY 2002-2004 Sedonas with a “brake” letter height of 1.9 mm and an “ABS” letter height of 1.9 mm, and 189,181 MY 2000-2004 Spectras with a “brake” letter height of 2.2 mm and an “ABS” letter height of 1.7 mm.

An additional 35,266 vehicles do not meet the letter height requirements for the abbreviation “ABS.” These noncompliant vehicles are 957 MY 1995-1999 Sephias with an “ABS” letter height of 2.8 mm, 33,023 MY 2003-2004 Sorentos with an “ABS” letter height of 1.9 mm, and 1286 MY 2001-2004 Rios with an “ABS” letter height of 2.0 mm.

Kia believes that the noncompliance is inconsequential to motor vehicle safety, and that no corrective action is warranted. Kia states that the brake and ABS system warning lights are positioned for ready viewing by the driver, and that they are illuminated in red (brake warning light) or yellow (ABS light), colors that are generally understood by vehicle users to be indicators of unsafe condition.

Kia further states that the brake and antilock system warning lights in all the Kia vehicles involved in this petition include an International Standards Organization (ISO) symbol combined with the word “brake” or the abbreviation “ABS.” Kia states that it believes the ISO symbols which it uses in conjunction with the word “brake” and abbreviation “ABS” are commonly understood by the driving public. Kia says that, although the “brake” or “ABS” lettering within the warning light is less than the minimum letter height standard of 3.2 mm, the combined height of the entire brake or ABS warning light symbol and lettering ranges from a low of 6 mm for the brake light in the Kia Sephia to a high of 6.8 mm for the ABS light in the Kia Sedona, which significantly exceeds the 3.2 mm standard of FMVSS Nos. 101, 105, and 135.

Kia asserts that all these factors combine to assure an easily identifiable and readable display. In this regard, Kia points out that in 1982, NHTSA granted a Subaru of America, Inc. petition involving passenger vehicles where the lettering of “brake” was only 2.2 mm high, but which used the ISO symbol in conjunction with the word “brake” (47 FR 31347). In 1986, NHTSA granted an Alfa Romeo, Inc. petition involving passenger vehicles which used the ISO symbol instead of the word “brake” (51 FR 36769). In 1994, NHTSA granted a Ford Motor Company petition involving passenger vehicles which similarly used the ISO symbol instead of the word “brake” (59 FR 40409).

The agency agrees with Kia this noncompliance will not have an adverse effect on vehicle safety. Due to the positioning, color, use of the ISO symbol, and combined size of both the lettering and symbols, it is very unlikely that a vehicle user would either fail to see or fail to understand the meaning of the brake or ABS warning light in the affected vehicles. The information presented by the telltales is correct. Kia has not received any complaints regarding the size or visibility of either light. Kia has corrected the problem.

In consideration of the foregoing, NHTSA has decided that the petitioner has met its burden of persuasion that the noncompliance described is inconsequential to motor vehicle safety. Accordingly, Kia's petition is granted and the petitioner is exempted from the obligation of providing notification of and a remedy for the noncompliance.

Authority: (49 U.S.C. 30118, 30120; delegations of authority at CFR 1.50 and 501.8).

Issued on: July 1, 2004.
Kenneth N. Weinstein,
Associate Administrator for Enforcement.

[FR Doc. 04-15562 Filed 7-7-04; 8:45 am]

BILLING CODE 4910-59-P